DEPARTMENT OF JUSTICE

Antitrust Division

Notice Pursuant to the National Cooperative Research and Production Act of 1993—Consortium for Advanced Manufacturing-International

Notice is hereby given that, on September 16, 2004, pursuant to section 6(a) of the National Cooperative Research and Production Act of 1993, 15 U.S.C. 4301 et seq. (“the Act”), Consortium for Advanced Manufacturing-International (“CAM-I”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Consortium for Advanced Manufacturing-International, Fort Worth, TX. The nature and scope of CAM-I's standards development activities are: To focus on information preparation for computer aided/integrated manufacturing systems and methods related to standards software input/output, interfaces, and language specifications.

Dorothy B. Fountain,
Deputy Director of Operations, Antitrust Division.

[FR Doc. 04-25860 Filed 11-19-04; 8:45 am]

BILLING CODE 4410-11-M